ENVIRONMENTAL PROTECTION AGENCY

[FRL-7929-8]

Notice of a Public Meeting: Expert Panel Workshop on Lead in Plumbing Fittings and Fixtures

AGENCY: Environmental Protection Agency.

ACTION: Notice of public meeting.

SUMMARY: The U.S. Environmental Protection Agency (EPA) is convening an expert panel workshop to discuss issues associated with the Lead and Copper Rule (LCR). This workshop will examine and discuss potential issues associated with lead in plumbing fittings and fixtures, including their potential to leach lead into water, existing standards and test protocols, utility challenges, and manufacturer perspectives.

DATES: The workshop on Lead in Plumbing Fittings and Fixtures will be held on Tuesday, July 26, 2005, 8 a.m. to 5 p.m., eastern time (ET) and Wednesday, July 27, 2005, 8 a.m. to 3 p.m. (ET).

ADDRESSES: The workshop will be held at the Washington Marriott, 1221 22nd Street, NW., Washington, DC 20037.

FOR FURTHER INFORMATION CONTACT: The Safe Drinking Water Hotline at 1-800-426-4791, Monday through Friday between 9 a.m. and 5 p.m. (ET), to register for this workshop as an observer. There is no charge for attending this workshop, but seats are limited, so register as soon as possible. For administrative meeting information, call Brian Murphy, HDR/ Economic and Engineering Services, Inc., at 503-223-3033 or by e-mail at brian.murphy@hdrinc.com. For technical information, contact Kira Smith, Office of Ground Water and Drinking Water, U.S. EPA, 1200 Pennsylvania Ave., NW., (MC 4607M), Washington, DC 20460, at 202-564-1629, or by e-mail at smith.kira@epa.gov.

SUPPLEMENTARY INFORMATION: Members of the public may attend as observers at the workshop and provide comments during a designated 60-minute period on Tuesday, July 26, 2005. Individual oral comments should be limited to no more than 5 minutes and it is preferred that only one person present the statement on behalf of a group or organization. Written comments may be provided at the meeting or may be sent to Kira Smith at the mail or e-mail addresses listed in the FOR FURTHER INFORMATION CONTACT section of this notice.

Special Accommodations

Any person needing special accommodations at this meeting, including wheelchair access, should contact Brian Murphy at the number or email address listed in the FOR FURTHER INFORMATION CONTACT section of this notice. Requests for special accommodations should be made at least five days in advance of the workshop.

Dated: June 22, 2005.
Cynthia C. Dougherty,
Director, Office of Ground Water and Drinking Water.

[FR Doc. 05-12714 Filed 6-27-05; 8:45 am]

BILLING CODE 6560-50-P